DEPARTMENT OF STATE

[Public Notice Number: 6227]

U.S. Advisory Commission on Public Diplomacy; Notice of Meeting

The U.S. Advisory Commission on Public Diplomacy will hold a public meeting from 11 a.m. to 12 p.m. on Wednesday, June 25, 2008, in Room 1408 at the U.S. Department of State at 2201 C Street, NW., Washington, DC 20520. The Commissioners will present their report on the human resources dimension of State Department public diplomacy operations, including the following topics:

• The manner in which public diplomacy officers are recruited;

• The degree to which the Foreign Service examination process tests for public diplomacy-related instincts, knowledge and skills;

• The way public diplomacy officers are trained;

• The degree to which the employee evaluation report (EER) incentivizes the performance of public diplomacy outreach;

• The function, in the post-USIA era, of the public diplomacy area offices housed within the Department's regional bureaus;

• The role, in the post-USIA era, of public affairs officers (PAOs) at large posts; and

• The degree to which the 1999 merger of the USIA into the State Department has resulted in better integration of the public diplomacy function into the work of the State Department, in particular, as measured by the presence of PD officers in the Department's decision-making ranks.

The Advisory Commission was originally established under Section 604 of the United States Information and Exchange Act of 1948, as amended (22 U.S.C. 1469) and Section 8 of Reorganization Plan Numbered 2 of 1977. It was reauthorized pursuant to Public Law 110-21 (2007). The Commission is a bipartisan panel created by Congress in 1948 to assess public diplomacy policies and programs of the U.S. government and publicly funded nongovernmental organizations. The Commission reports its findings and recommendations to the President, the Congress and the Secretary of State and the American people. Current Commission members include William J. Hybl of Colorado, who is the Chairman; Ambassador Elizabeth Bagley of Washington, DC, who is the Vice Chairman; Maria Sophia Aguirre of Washington, DC; Ambassador Penne Percy Korth of Washington, DC; John E. Osborn of Pennsylvania; Harold Pachios of Maine; and Jay T. Snyder of New York.

Seating is limited. To attend the meeting and for identification requirements to enter the State Department and other information, please contact Carl Chan at (202) 203-7883. E-mail: chanck@state.gov.

Dated: May 30, 2008.
Carl Chan,
Executive Director, ACPD, Department of State.

[FR Doc. E8-12994 Filed 6-9-08; 8:45 am]

BILLING CODE 4710-11-P